NUCLEAR REGULATORY COMMISSION

Draft Regulatory Guide; Issuance, Availability

The U.S. Nuclear Regulatory Commission (NRC) has issued for public comment a draft of a new guide in the agency's Regulatory Guide Series. This series has been developed to describe and make available to the public such information as methods that are acceptable to the NRC staff for implementing specific parts of the NRC's regulations, techniques that the staff uses in evaluating specific problems or postulated accidents, and data that the staff needs in its review of applications for permits and licenses.

The new draft regulatory guide, entitled “Risk-Informed, Performance-Based Fire Protection for Existing Light-Water Nuclear Power Plants,” is temporarily identified by its task number, DG-1139, which should be mentioned in all related correspondence. The draft regulatory guide contains the staff's regulatory position on “Guidance for Implementing a Risk-Informed, Performance-Based Fire Protection Program Under 10 CFR 50.48(c),” which the Nuclear Energy Institute (NEI) has promulgated as document #NEI 04-02.

It is the staff's intent to endorse a version of NEI 04-02, as appropriate, in the final regulatory guide, consistent with the new risk-informed, performance-based fire protection rule, specified in Title 10, Section 50.48(c), of the Code of Federal Regulations [10 CFR 50.48(c)], which the NRC has issued for existing light-water nuclear power plants. This new regulation provides a voluntary alternative to the requirements of Appendix R to 10 CFR part 50, “Fire Protection Program for Nuclear Power Facilities Operating Prior to January 1, 1979.” As such, the new rule endorses a national consensus standard (NEI 04-02), sets performance goals and criteria, and takes advantage of experience and enhanced methodologies.

The NRC staff is soliciting comments on draft regulatory guide DG-1139, and comments may be accompanied by relevant information or supporting data. Please mention DG-1139 [50.48(c) RG] in the subject line of your comments. Comments on this draft regulatory guide submitted in writing or in electronic form will be made available to the public in their entirety on the NRC's rulemaking Web site. Personal information will not be removed from your comments. You may submit comments by any of the following methods.

Mail comments to: Rules and Directives Branch, Office of Administration, U.S. Nuclear Regulatory Commission, Washington, DC 20555-0001.

Email comments to: NRCREP@nrc.gov. You may also submit comments via the NRC's rulemaking Web site at http://ruleforum.llnl.gov. Address questions about our rulemaking Web site to Carol A. Gallagher (301) 415-5905; email CAG@nrc.gov.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Request for information about draft regulatory guide DG-1139 may be directed to Paul W. Lain at (301) 415-2346 or via email to PWL@nrc.gov.

Comments would be most helpful if received by December 15, 2004. Comments received after this date will be considered if it is practical to do so, but the NRC is able to ensure consideration only for comments received on or before this date. Although a time limit is given, comments and suggestions in connection with items for inclusion in guides currently being developed or improvements in all published guides are encouraged at any time.

Electronic copies of the draft regulatory guide are available through the NRC's public Web site under Draft Regulatory Guides in the Regulatory Guides document collection of the NRC's Electronic Reading Room at http://www.nrc.gov/reading-rm/doc-collections/. Electronic copies are also available in the NRC's Agencywide Documents Access and Management System (ADAMS) at http://www.nrc.gov/reading-rm/adams.html, under Accession No. ML042740308. In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548; and by email to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by email to DISTRIBUTION@nrc.gov; or by fax to (301) 415-2289. Telephone requests cannot be accommodated. Regulatory guides are not copyrighted, and Commission approval is not required to reproduce them. (U.S.C. 552(a))

Dated at Rockville, Maryland, this 30th day of September , 2004.
For the U.S. Nuclear Regulatory Commission.
Sharon D. Stewart,
Acting Director, Program Management, Policy Development and Analysis Staff, Office of Nuclear Regulatory Research.

[FR Doc. 04-22545 Filed 10-6-04; 8:45 am]

BILLING CODE 7590-01-P